ENVIRONMENTAL PROTECTION AGENCY

40 CFR Part 52

[EPA-R01-OAR-2008-0117; A-1-FRL-9810-1]

Approval and Promulgation of Air Quality Implementation Plans; Connecticut; Ozone Attainment Demonstrations

AGENCY: Environmental Protection Agency (EPA).

ACTION: Proposed rule.

SUMMARY: EPA is proposing to approve the ozone attainment demonstrations (including the reasonably available control measures (RACM) analyses) submitted by Connecticut as a State Implementation Plan (SIP) revision on February 1, 2008 to meet Clean Air Act requirements for attaining the 1997 8-hour ozone national ambient air quality standard. EPA is proposing to approve Connecticut's demonstrations of attainment of the 1997 8-hour ozone standard for Connecticut's portion of the New York-Northern New Jersey-Long Island, NY-NJ-CT 1997 moderate ozone nonattainment area and for the Greater Connecticut moderate ozone nonattainment area. EPA is also proposing to approve the RACM analyses for these same areas.

DATES: Written comments must be received on or before June 10, 2013.

ADDRESSES: Submit your comments, identified by Docket ID Number EPA-R01-OAR-2008-0117 by one of the following methods:

1. www.regulations.gov: Follow the on-line instructions for submitting comments.

2. Email: arnold.anne@epa.gov.

3. Fax: (617) 918-0047.

4. Mail: “Docket Identification Number EPA-R01-OAR-2008-0117,” Anne Arnold, U.S. Environmental Protection Agency, EPA New England Regional Office, 5 Post Office Square, Suite 100 (mail code: OEP05-2), Boston, MA 02109-3912.

5. Hand Delivery or Courier. Deliver your comments to: Anne Arnold, Manager, Air Quality Planning Unit, Office of Ecosystem Protection, U.S. Environmental Protection Agency, EPA New England Regional Office, 5 Post Office Square, Suite 100, Boston, MA 02109-3912. Such deliveries are only accepted during the Regional Office's normal hours of operation. The Regional Office's official hours of business are Monday through Friday, 8:30 to 4:30, excluding legal holidays.

Instructions: Direct your comments to Docket ID No. EPA-R01-OAR-2008-0117. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” systems, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Air Quality Planning Unit, Office of Ecosystem Protection, U.S. Environmental Protection Agency, EPA New England Regional Office, One Congress Street, 11th floor, (CAQ), Boston, MA 02114-2023. EPA requests that if at all possible, you contact the person listed in the FOR FURTHER INFORMATION CONTACT section to schedule your inspection. The Regional Office's official hours of business are Monday through Friday, 8:30 to 4:30, excluding legal holidays.

In addition, copies of the state submittal are also available for public inspection during normal business hours, by appointment at the State Air Agency: the Bureau of Air Management, Department of Energy and Environmental Protection, State Office Building, 79 Elm Street, Hartford, CT 06106-1630.

FOR FURTHER INFORMATION CONTACT: Richard P. Burkhart, Air Quality Planning Unit, U.S. Environmental Protection Agency, EPA New England Regional Office, 5 Post Office Square, Suite 100, Boston, MA 02109-3912, telephone number (617) 918-1664, fax number (617) 918-0664, email Burkhart.Richard@epa.gov.

SUPPLEMENTARY INFORMATION: Throughout this document, wherever “Agency,” “we,” “us,” or “our” is used, we mean the EPA.

Table of Contents

I. What Actions is EPA Proposing?

II. What is the Background for EPA's Proposed Actions?

A. History of Connecticut's Ozone Attainment Demonstrations

B. Moderate Nonattainment Area Requirements

C. Why is EPA Proposing these Actions?

III. What was included in Connecticut's SIP Submittal?

IV. What is EPA's Basis for Proposing to Approve the Attainment Demonstrations?

A. Adequacy of Control Strategy

B. Components of the Modeled Attainment Demonstrations

C. Air Quality Data

D. EPA's Evaluation

V. Proposed Actions

VI. Statutory and Executive Order Reviews

I. What actions is EPA proposing?

EPA is proposing to approve Connecticut's February 1, 2008 SIP revision which demonstrates attainment of the 1997 8-hour ozone national ambient air quality standard (NAAQS or standard) ¹ for Connecticut's portion of the New York-Northern New Jersey-Long Island, NY-NJ-CT moderate ozone nonattainment area (also called the New York City area) and for the Greater Connecticut moderate ozone nonattainment area. EPA is also proposing to approve the associated RACM analyses for these same areas. The EPA is proposing to approve Connecticut's 1997 8-hour ozone attainment demonstrations and RACM analyses, because the EPA has determined that both the New York City and Greater Connecticut moderate ozone nonattainment areas attained the 1997 8-hour ozone NAAQS by their attainment deadline.

¹ Unless otherwise specifically noted in this action, references to the 8-hour ozone standard are to the 0.08 parts per million (ppm) ozone standard promulgated in 1997.

II. What is the background for EPA's proposed actions?

A. History of Connecticut Ozone Attainment Demonstrations.

In 1997, EPA revised the health-based NAAQS for ozone, setting it at 0.08 ppm averaged over an 8-hour time frame. EPA set the 8-hour ozone standard based on scientific evidence demonstrating that ozone causes adverse health effects at lower ozone concentrations and over longer periods of time than was understood when the pre-existing 1-hour ozone standard was set. EPA determined that the 8-hour standard would be more protective of human health, especially with regard to children and adults who are active outdoors, and individuals with a pre-existing respiratory disease, such as asthma.

On April 30, 2004 (69 FR 23858), EPA finalized its attainment/nonattainment designations for areas across the country with respect to the 8-hour ozone standard. These actions became effective on June 15, 2004. Among those nonattainment areas is the New York City area. The New York City moderate ozone nonattainment area is composed of: Bergen, Essex, Hudson, Hunterdon, Middlesex, Monmouth, Morris, Passaic, Somerset, Sussex, Union, and Warren Counties in New Jersey; Bronx, Kings, Nassau, New York, Queens, Richmond, Rockland, Suffolk, and Westchester Counties in New York; and Fairfield, Middlesex, and New Haven Counties in Connecticut. See 40 CFR 81.307, 81.331, and 81.333. In addition, the remaining five counties in Connecticut were also designated nonattainment, as the Greater Connecticut moderate ozone nonattainment area. See 40 CFR 81.307.

Also, on April 30, 2004 (69 FR 23951), EPA promulgated the Phase 1 8-hour ozone implementation rule which provided how areas designated nonattainment for the 1997 8-hour ozone standard would be classified. These designations triggered the Clean Air Act (CAA or Act) requirements under section 182(b) for moderate nonattainment areas, including a requirement to submit an attainment demonstration. EPA's Phase 2 8-hour ozone implementation rule, published on November 29, 2005 (70 FR 71612) (Phase 2 Rule) specifies that states must submit attainment demonstrations for their nonattainment areas to the EPA by no later than three years from the effective date of designation, that is, by June 15, 2007. 40 CFR 51.908(a).

Although the focus of this proposed action is on attainment demonstrations and RACM analyses for the 1997 8-hour ozone standard, we note that EPA has subsequently revised the ozone standard. On March 12, 2008, EPA revised both the primary and secondary NAAQS for ozone to a level of 0.075 ppm (annual fourth-highest daily maximum 8-hour average concentration, averaged over 3 years) to provide increased protection of public health and the environment.² The 2008 ozone NAAQS retain the same general form and averaging time as the 0.08 ppm NAAQS set in 1997, but are set at a more protective level. State emission reduction efforts already underway to meet the 1997 8-hour ozone standard will continue with implementation of the 2008 ozone NAAQS.

² See 73 FR 16436; March 27, 2008. For a detailed explanation of the calculation of the 3-year 8-hour average, see 40 CFR part 50, Appendix I.

B. Moderate Nonattainment Area Requirements.

EPA's November 29, 2005 Phase 2 ozone implementation rule addresses, among other things, the control obligations that apply to areas designated nonattainment for the 1997 8-hour NAAQS. The Phase 1 and Phase 2 ozone implementation rules outline the SIP requirements and deadlines for various requirements in areas designated as moderate nonattainment. For such areas, modeling and attainment demonstrations with projection year emission inventories were due by June 15, 2007, along with reasonable further progress (RFP) plans, RACM, motor vehicle emissions budgets and contingency measures (40 CFR 51.908(a) and (c), 51.910, 51.912). In addition, moderate nonattainment areas were also required to submit a reasonably available control technology (RACT) SIP. This action addresses Connecticut's demonstrations of attainment of the 1997 8-hour ozone standard, and the RACM analyses. Moderate nonattainment areas are required to attain the 1997 8-hour ozone NAAQS by no later than six years after designation, or June 15, 2010. See 40 CFR 51.903. In order to demonstrate attainment by June 2010, the area must adopt and implement all controls necessary for attainment by the beginning of the 2009 ozone season and demonstrate that the level of the standard will be met during the 2009 ozone season.

C. Why is EPA proposing these actions?

On August 31, 2010 (75 FR 53219), EPA made a determination that the Greater Connecticut area had attained the 1997 8-hour ozone NAAQS. Similarly, on June 18, 2012 (77 FR 36163), EPA made a determination that the New York City area had attained the 1997 8-hour ozone NAAQS. Pursuant to 40 CFR 51.918, these “clean data” determinations suspend the requirements for various SIP items, including, the requirement to submit an attainment demonstration, an RFP plan, and section 172(c)(9) contingency measures for the eight-hour ozone NAAQS for so long as an area continues to attain the ozone NAAQS. However, section 110(k)(2) of the CAA requires EPA to take action on any administratively complete SIP revision submittal within 12 months of the SIP being deemed complete. Therefore, while the clean data determinations suspend the state's obligation to submit the attainment demonstration SIP revision, the determinations do not suspend EPA's obligation to take action on the SIP revision if it has been submitted by the state and deemed to be complete. This proposed rulemaking is intended to address EPA's obligations on Connecticut's February 1, 2008 SIP revision.

III. What was included in Connecticut's SIP submittal?

After completing the appropriate public notice and comment procedures, Connecticut made a series of submittals in order to address the Act's 1997 8-hour ozone nonattainment requirements.

On December 8, 2006, Connecticut submitted its state-wide 8-hour ozone RACT SIP, for both volatile organic compounds and oxides of nitrogen, which included a determination that many of the RACT rules currently contained in its SIP meet the RACT obligation for the 8-hour standard and also included commitments to adopt revisions to several regulations where the State identified more stringent emission limitations that it believed should now be considered RACT.

On February 1, 2008, Connecticut submitted a SIP that included ozone attainment demonstrations for the 1997 8-hour ozone standard, RFP plans, motor vehicle emissions budgets, contingency measures and RACM analyses for the Connecticut portion of the New York City area and the Greater Connecticut area. Connecticut's attainment demonstrations and RACM analyses are the only subjects of this proposed rulemaking.

On August 22, 2012 (77 FR 50595), EPA approved Connecticut's RFP plans for the Connecticut portion of the New York City area and the Greater Connecticut area. In that same notice, EPA also approved the contingency measures, the 2002 base year inventory, and the Motor Vehicle Emissions Budgets for 2008, associated with the reasonable further progress plans for both these areas.

IV. What is EPA's basis for approving the attainment demonstrations?

A. Adequacy of Control Strategy

Sections 172 and 182 of the Act require Connecticut to revise its SIP to meet various requirements applicable to nonattainment areas. Connecticut has submitted all required SIP revisions to address the control requirements under the 1997 8-hour ozone standard.

As noted earlier, EPA has already approved Connecticut's RFP plans for both nonattainment areas (77 FR 50595). Note that New Jersey and New York also have fully implemented RFP plans for the New York City area.³ All three state's RFP plans contained corresponding emission control measures, and the three states also developed and adopted additional control measures to ensure attainment of the ozone standard by the attainment date. All of the control measures that are contained in the RFP plans were submitted as SIP revisions and approved by EPA. Therefore, Connecticut's demonstrations of attainment for the New York City and Greater Connecticut areas are approvable because Connecticut adopted the necessary ozone precursor control measures in its ozone plans.

³ For further information on these plans, see 76 FR 51264 for New York and 74 FR 22837 for New Jersey.

As discussed above, EPA has already approved most of Connecticut's SIP revisions or analyses under these requirements. In this action, EPA is also proposing to approve Connecticut's RACM analyses. Furthermore, the final approval of Connecticut's December 8, 2006 RACT SIP was signed by the Regional Administrator on March 22, 2013 and forwarded for publication in the Federal Register. A copy of the signed approval is available in the docket for this action. Also, Connecticut submitted two additional control measures to EPA as SIP revisions from which reductions are assumed in Connecticut's attainment demonstrations. These measures are: VOC content limits for consumer products (Regulations of Connecticut State Agencies (RCSA) section 22a-174-40) and restrictions on the manufacture and use of adhesives and sealants (RCSA section 22a-174-44). EPA will take final action on these two regulations prior to finalizing action on today's proposal.

Finally, it should be noted that Connecticut's attainment demonstrations also include discussion of an anticipated measure, NOX reductions from industrial, commercial and institutional (ICI) boilers that has not been adopted. However, on April 2, 2013, the Connecticut Department of Energy and Environmental Protection (CT DEEP) submitted a letter withdrawing this anticipated measure from its ozone attainment demonstrations submittal. CT DEEP noted in its withdrawal letter, that EPA has issued final determinations that both the Greater Connecticut and New York City areas have attained the 1997 8-hour ozone standard. Therefore, CT DEEP indicated that it now believes that the ICI boilers measure is not necessary for purposes of attainment of the 1997 8-hour ozone standard. We concur that the ICI boilers measure is not necessary for Connecticut's attainment demonstrations, for the following reasons. According to Connecticut's 2008 submission, in 2012, the ICI boiler regulation was projected to reduce NOX emissions by 1.7 tons summer per day (TPSD) in the Connecticut portion of the New York City nonattainment area.⁴ The total NOX emissions projected for 2012 for the Connecticut portion of the New York City nonattainment area are 110.6 TPSD.⁵ Moreover, the total projected NOX emissions for 2012 for the entire three-state New York City nonattainment area exceeded 900 TPSD.⁶ Comparing the projected reductions from the ICI boiler rule to the projected total NOX emissions across all sectors, the potential NOX reductions from Connecticut ICI boilers were only projected to equal 1.54% of the total Connecticut NOX emissions for the area in 2012, and less than 0.2% of the total NOX emissions for the entire nonattainment area. Since the ICI boiler rule would have resulted in a very small percent reduction in NOX emissions, as compared to the total, the fact that Connecticut did not enact the rule does not call into question the adequacy of its SIP as a whole.

⁴ The reductions were projected as 0.9 tons per day from area sources, and 0.8 tons per day from point sources. See Attachment F (“Revision to Connecticut's State Implementation Plan, 8-Hour Ozone Attainment Demonstration Technical Support Document, Appendices”), Appendix 4E (unnumbered last page labeled “Emission Reductions from ICI Boiler Control Strategy”).

⁵ See Attachment D (“Revision to Connecticut's State Implementation Plan, 8-Hour Ozone Attainment Demonstration Technical Support”), Table 4.4.2, at 4-32.

⁶ For the New York portion of the New York City nonattainment area, the projected 2012 NOX emissions are 544.9 TPSD. New Jersey did not project 2012 emissions, but projected total NOX emissions for 2009 of 326.5 TPSD. Using the simplifying assumption that New Jersey's 2012 emissions would be at most equal to its 2009 emissions despite continued application of emissions controls, the projected total NOX emissions for the New York City area can therefore be estimated as 982 TPSD (110.6 from Connecticut, 544.9 from New York, and 326.5 from New Jersey).

EPA's approval of these SIP revisions, in combination with this proposed approval of the attainment demonstrations and RACM analyses for the 1997 8-hour ozone standard, will serve to completely address Connecticut's requirements under the 1997 8-hour ozone standard for the Connecticut portion of the New York City area and for the Greater Connecticut area.

B. Components of the Modeled Attainment Demonstrations

Section 110(a)(2)(k) of the Act requires states to prepare air quality modeling to demonstrate how they will meet ambient air quality standards. The SIP must demonstrate that the “measures, rules, and regulations contained in it are adequate to provide for the timely attainment and maintenance of the national standard.” 40 CFR 51.112(a). EPA determined that states must use photochemical grid modeling, or any other analytical method determined by the Administrator to be at least as effective, to demonstrate attainment of the ozone health-based standard in areas classified as “moderate” or above, and to do so by the required attainment date. See 40 CFR 51.908(c). EPA requires an attainment demonstration, showing that attainment will occur by the attainment deadline, which for the New York City and Greater Connecticut areas was the end of the 2009 ozone season, using air quality modeling that meets EPA's guidelines. The model analysis can be supplemented by a “weight of evidence” analysis in which the State can use a variety of information to enhance the conclusions reached by the photochemical model analysis. In the case of the Connecticut areas, the weight of evidence also included additional emission reductions not included in the model inventory, such as the high electric demand day reductions, and energy efficiency reductions. EPA has determined that the photochemical grid modeling conducted by the state is consistent with EPA's guidelines and the model performed acceptably. See 40 CFR 51.908(c).

C. Air Quality Data

With respect to the Greater Connecticut area, EPA has evaluated the ambient air quality monitoring data and has determined that this area attained the 8-hour ozone standard by the required attainment date. On August 31, 2010 (75 FR 53219), EPA made a determination that the Greater Connecticut area had attained the 1997 8-hour ozone NAAQS. This determination was based upon complete, quality assured and certified ambient air monitoring data that showed the Greater Connecticut area had monitored attainment of the 1997 8-hour ozone NAAQS for the 2007-2009 monitoring period. Ambient air monitoring data for the 2008-2010 and 2009-2011 monitoring periods is also consistent with continued attainment. In addition, in this same rulemaking, pursuant to section 181(b)(2)(A) of the CAA, EPA made a determination of attainment that the Greater Connecticut area had attained the 1997 8-hour ozone NAAQS by its attainment date of June 15, 2010.

With respect to the New York City area, EPA has evaluated the ambient air quality monitoring data and has determined that this area attained the 8-hour ozone standard by the required attainment date. On June 18, 2012 (77 FR 36163), EPA made a determination that the New York City area had attained the 1997 8-hour ozone NAAQS. This determination was based upon complete, quality assured and certified ambient air monitoring data that showed the New York City area had monitored attainment of the 1997 8-hour ozone NAAQS for the 2007-2009 and 2008-2010 monitoring periods. Ambient air monitoring data for the 2009-2011 monitoring period is also consistent with continued attainment. In addition, in this same rulemaking, pursuant to section 181(b)(2)(A) of the CAA, EPA made a determination of attainment that the New York City area had attained the 1997 8-hour ozone NAAQS by its attainment date of June 15, 2010. Copies of the August 21, 2010 and June 18, 2012 rulemakings are included in the Docket (EPA-R01-OAR-2008-0117) and available at www.regulations.gov. The reader is referred to these rulemakings for additional information regarding all of the complete, quality-assured and certified ozone monitoring data which served as the basis for these determinations.

EPA is aware that preliminary ambient air quality monitoring data for 2012 may indicate that the New York City area ⁷ has ozone air quality above the 1997 8-hour ozone NAAQS. However, 2012 monitoring data are not relevant to this particular action. This document proposes to approve Connecticut's demonstration of how it planned to attain the 1997 8-hour ozone standard by the June 15, 2010 attainment date. As explained above, Connecticut's control strategy meets applicable EPA requirements, Connecticut's photochemical grid modeling demonstrated that it would attain the standard by the attainment date, and, based on monitored ozone data the New York City area attained the standard by the attainment date.

⁷ Note this situation only applies to the New York City area. Preliminary ozone data for 2012 for the Greater Connecticut area indicates continued attainment of the 1997 8-hour ozone standard.

With respect to post-attainment date air quality data, EPA has a continuing obligation to review the air quality data each year, to determine whether areas are meeting the NAAQS, and EPA will continue to conduct such review in the future after the data are complete, quality-assured, certified and submitted to EPA.

D. EPA's Evaluation

In summary, the photochemical grid modeling used by Connecticut in its February 1, 2008 SIP submittal meets EPA's guidelines and is acceptable to EPA. Air quality data through 2011 supports the conclusion that the New York City and Greater Connecticut areas did demonstrate attainment of the 8-hour ozone standard by their attainment date. The purpose of the attainment demonstration is to demonstrate how, through enforceable and approvable emission reductions, an area will meet the standard by the attainment date. All necessary ozone control measures have already been adopted, submitted, approved ⁸ and implemented. Based on (1) The state following EPA's modeling guidance, (2) the air quality data through 2011, (3) the areas attaining the standard by the attainment date, and (4) the implemented SIP-approved control measures, EPA is proposing to approve the Connecticut ozone attainment demonstrations, including the RACM analyses for the Greater Connecticut area and for the Connecticut portion of the New York City area. For similar information about the New Jersey and New York portions of the New York City area, the reader is referred to EPA's approval of the New Jersey and New York ozone attainment demonstrations published on February 11, 2013 (78 FR 9596).

⁸ As noted above, all necessary measures have been approved with the exception of RCSA sections 22a-174-40 and 22a-174-44. EPA will take final action on these two regulations prior to finalizing today's proposal.

EPA is soliciting public comments on the issues discussed in this notice or on other relevant matters. These comments will be considered before taking final action. Interested parties may participate in the Federal rulemaking procedure by submitting written comments to the EPA New England Regional Office listed in the ADDRESSES section of this Federal Register.

V. Proposed Actions

EPA is proposing to approve the Connecticut ozone attainment demonstrations, including the RACM analyses, for both the Connecticut portion of the New York City moderate ozone nonattainment area and for the Greater Connecticut moderate ozone nonattainment area. EPA has evaluated Connecticut's submittal for consistency with the Act, EPA regulations, and EPA policy, and has considered all other information it deems relevant to attainment of the 1997 8-hour ozone standard, i.e., clean data determinations, determinations that the areas attained the standard by the applicable attainment date, statewide RACT, reasonable further progress plan approvals (including all applicable control strategy regulations), continued attainment of the 1997 8-hour ozone standard based on quality assured and certified monitoring data through 2011, and the implementation of the more stringent 2008 8-hour ozone standard.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, these actions:

• Are not “significant regulatory actions” subject to review by the Office of Management and Budget under Executive Order 12866 (58 FR 51735, October 4, 1993);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: April 29, 2013.
H. Curtis Spalding,
Regional Administrator, EPA New England.

[FR Doc. 2013-10929 Filed 5-8-13; 8:45 am]

BILLING CODE 6560-50-P